DEPARTMENT OF ENERGY

Federal Energy Regulatory Commission

[Docket No. RP04-232-001]

Transcontinental Gas Pipe Line Corporation; Notice of Compliance Filing

May 11, 2004.

Take notice that on May 7, 2004, Transcontinental Gas Pipe Line Corporation (Transco) tendered for filing as part of its FERC Gas Tariff, Third Revised Volume No. 1, Substitute First Revised Sheet No. 331 and Original Sheet No. 332, to be effective May 1, 2004.

Transco states that the purpose of this filing is to comply with the Commission's Order issued on April 30, 2004, in the referenced docket, in which the Commission directed Transco to file, within 10 days, revised tariff sheets to modify its provisions in section 22 (Policy for Consolidation of Service Agreements) of its General Terms and Conditions.

Transco states that copies of the filing are being mailed to parties included on the official service list in the referenced docket, interested State Commissions, and other interested parties.

Any person desiring to protest said filing should file a protest with the Federal Energy Regulatory Commission, 888 First Street, NE., Washington, DC 20426, in accordance with section 385.211 of the Commission's rules and regulations. All such protests must be filed in accordance with section 154.210 of the Commission's regulations. Protests will be considered by the Commission in determining the appropriate action to be taken, but will not serve to make protestants parties to the proceedings. This filing is available for review at the Commission in the Public Reference Room or may be viewed on the Commission's Web site at http://www.ferc.gov using the eLibrary link. Enter the docket number excluding the last three digits in the docket number field to access the document. For assistance, please contact FERC Online Support at FERCOnlineSupport@ferc.gov or toll-free at (866) 208-3676, or TTY, contact (202) 502-8659. The Commission strongly encourages electronic filings. See, 18 CFR 385.2001(a)(1)(iii) and the instructions on the Commission's Web site under the e-Filing link.

Linda Mitry,
Acting Secretary.

[FR Doc. E4-1168 Filed 5-14-04; 8:45 am]

BILLING CODE 6717-01-P